DEPARTMENT OF HEALTH AND HUMAN SERVICES

Centers for Disease Control and Prevention

Board of Scientific Counselors, Office of Infectious Diseases (BSC, OID)

AGENCY: Centers for Disease Control and Prevention (CDC), Department of Health and Human Services (HHS).

ACTION: Notice of meeting.

SUMMARY: In accordance with the Federal Advisory Committee Act, the CDC announces the following meeting for the Board of Scientific Counselors, Office of Infectious Diseases (BSC, OID). This meeting is open to the public, limited only by the space available; the meeting room will accommodate up to 100 people. The public is also welcome to listen to the meeting by telephone, limited only by the number of ports available (50); the toll-free dial-in number is 1-888-998-7892, with a pass code of 1252535.

DATES: The meeting will be held on May 2, 2018, 8:30 a.m. to 5:00 p.m., EDT, and May 3, 2018, 8:30 a.m. to 12:00 p.m., EDT.

ADDRESSES: CDC, Global Communications Center, 1600 Clifton Road NE, Building 19, Auditorium B1/B2, Atlanta, Georgia 30329; also 1-888-998-7892.

FOR FURTHER INFORMATION CONTACT: Sarah Wiley, MPH, Designated Federal Officer, OID, CDC, 1600 Clifton Road NE, Mailstop D10, Atlanta, Georgia 30329, Telephone (404) 639-4840; sed5@cdc.gov.

SUPPLEMENTARY INFORMATION:

Purpose: The BSC, OID, provides advice and guidance to the Secretary, Department of Health and Human Services; the Director, CDC; the Director, OID; and the Directors of the National Center for Immunization and Respiratory Diseases, the National Center for Emerging and Zoonotic Infectious Diseases, and the National Center for HIV/AIDS, Viral Hepatitis, STD, and TB Prevention, CDC, in the following areas: Strategies, goals, and priorities for programs; research within the national centers; and overall strategic direction and focus of OID and the national centers.

Matters To Be Considered: The agenda will include discussions on priority issues for the national centers, including influenza, foodborne infections, antimicrobial resistance, and viral hepatitis, as well as public health workforce development. A report back from the Board's Infectious Disease Laboratory Working Group will also be given. Agenda items are subject to change as priorities dictate.

The Director, Management Analysis and Services Office, has been delegated the authority to sign Federal Register notices pertaining to announcements of meetings and other committee management activities, for both the Centers for Disease Control and Prevention and the Agency for Toxic Substances and Disease Registry.

Elaine Baker,
Director, Management Analysis and Services Office, Centers for Disease Control and Prevention.

[FR Doc. 2018-06545 Filed 3-30-18; 8:45 am]

BILLING CODE 4163-19-P